DEPARTMENT OF HEALTH AND HUMAN SERVICES

Centers for Disease Control and Prevention

[Docket No. CDC-2024-0064; NIOSH 248-L]

Meeting of the World Trade Center Health Program Scientific/Technical Advisory Committee

AGENCY: Centers for Disease Control and Prevention (CDC), Department of Health and Human Services (HHS).

ACTION: Notice of meeting and request for comment.

SUMMARY: In accordance with the Federal Advisory Committee Act, the Centers for Disease Control and Prevention (CDC) announces the following meeting for the World Trade Center Health Program Scientific/Technical Advisory Committee (STAC). This virtual meeting is open to the public. Time will be available for public comment.

DATES: The meeting will be held on September 23, 2024, from 11 a.m. to 3 p.m., EDT.

Written public comments must be received by September 23, 2024, at 11:59 p.m., EDT. Members of the public who wish to address the STAC during the oral public comment session must sign up to speak by September 16, 2024, at the email address provided in the Procedure for Oral Public Comment section below.

ADDRESSES: This is a virtual meeting conducted via Zoom. The public is welcome to follow the proceedings via YouTube Live at the following link: https://youtube.com/live/7Pokfh4kcsc?feature=share. No registration is required. For additional information, please visit the World Trade Center Health Program website at https://www.cdc.gov/wtc/stac_meeting.html.

You may submit comments, identified by Docket No. CDC-2024-0064; NIOSH 248-L by either of the methods listed below. CDC does not accept comments by email.

• Federal eRulemaking Portal: https://www.regulations.gov. Follow the instructions for submitting comments.

• Mail: Ms. Sherri Diana, NIOSH Docket Office, National Institute for Occupational Safety and Health, Centers for Disease Control and Prevention, 1090 Tusculum Avenue, Mailstop C-34, Cincinnati, Ohio 45226. Attn: Docket No. CDC-2024-0064; NIOSH 248-L.

Instructions: All submissions received must include the Agency name and docket number (CDC-2024-0064; NIOSH 248-L). The docket will close on September 23, 2024. All relevant comments, including any personal information provided, will be posted without change to https://www.regulations.gov.

FOR FURTHER INFORMATION CONTACT: Tania Carreón-Valencia, Ph.D., M.S., Designated Federal Officer, World Trade Center Health Program Scientific/Technical Advisory Committee, National Institute for Occupational Safety and Health, Centers for Disease Control and Prevention, 1600 Clifton Road NE, Mailstop R-12, Atlanta, Georgia 30329-4027. Telephone: (513) 841-4515; Email: wtc-stac@cdc.gov.

SUPPLEMENTARY INFORMATION:

Background: The World Trade Center (WTC) Health Program, including the WTC Health Program Scientific/Technical Advisory Committee (STAC), was established by title I of the James Zadroga 9/11 Health and Compensation Act of 2010, Public Law 111-347, as amended by Public Law 114-113, Public Law 116-59, Public Law 117-328, and Public Law 118-31, adding title XXXIII to the Public Health Service (PHS) Act (codified at 42 U.S.C. 300mm to 300mm-64). Title XXXIII of the PHS Act established the WTC Health Program within the Department of Health and Human Services. The WTC Health Program provides medical monitoring and treatment benefits to eligible firefighters and related personnel, law enforcement officers, and rescue, recovery, and cleanup workers who responded to the September 11, 2001, terrorist attacks in New York City, at the Pentagon, and in Shanksville, Pennsylvania (responders), and to eligible persons who were present in the dust or dust cloud on September 11, 2001, or who worked, resided, or attended school, childcare, or adult daycare in the New York City disaster area (survivors).

All references to the Administrator in this document mean the Director of the National Institute for Occupational Safety and Health (NIOSH), within the Centers for Disease Control and Prevention (CDC), or his or her designee.

Purpose: The purpose of the STAC is to review scientific and medical evidence and to make recommendations to the Administrator of the WTC Health Program regarding additional WTC Health Program eligibility criteria, potential additions to the List of WTC-Related Health Conditions (List), and research regarding certain health conditions related to the September 11, 2001, terrorist attacks. In accordance with section 3312(a)(6)(G)(i)(II) of the PHS Act, the Administrator must ask the STAC to review and evaluate any substantive amendment to any existing WTC Health Program policy or procedure used to determine whether sufficient evidence exists to support adding a health condition to the List of WTC-Related Health Conditions.

The Administrator is responsible for the administration of the STAC. CDC and NIOSH provide funding, staffing, and administrative support services for the Committee. The STAC's charter was reissued on May 12, 2023, and will expire on May 12, 2025.

Matters to Be Considered: The agenda will include updates on the status of WTC Health Program Research and the Youth Research Cohort. It will include a presentation on the expansion of the WTC Health Program enrollment eligibility for Pentagon and Shanksville responders. In addition, there will be a presentation about non-substantive revisions to the existing Policy and Procedures for Adding Non-Cancer Health Conditions to the List of WTC-Related Health Conditions.

Background documents as well as the agenda for this meeting are available on the WTC Health Program website at https://www.cdc.gov/wtc/stac_meeting.html. Agenda items are subject to change as priorities dictate.

Public Participation

Interested parties may participate by submitting written views, opinions, recommendations, and data. You may submit comments on any topic related to the matters to be discussed by the Committee. Comments received, including attachments and other supporting materials, are part of the public record and subject to public disclosure. Do not include any information in your comment or supporting materials that you consider confidential or inappropriate for public disclosure. If you include your name, contact information, or other information that identifies you in the body of your comments, that information will be on public display. CDC will review all submissions and may choose to redact, or withhold, submissions containing private or proprietary information such as Social Security numbers, medical information, inappropriate language, or duplicate/near-duplicate examples of a mass-mail campaign. CDC will carefully consider all comments submitted into the docket.

Oral Public Comment: The public is welcome to participate, via Zoom, during the public comment period on September 23, 2024, from 1:15 p.m. to 1:45 p.m., EDT. Each commenter will be provided up to five minutes for comment. A limited number of time slots are available and will be assigned on a first-come, first-served basis.

Procedure for Oral Public Comment: Members of the public who wish to address the STAC during the oral public comment session at the September 23, 2024, STAC meeting must sign up to speak by providing their name to Ms. Mia Wallace, Committee Management Specialist, via email at MWallace@cdc.gov, by September 16, 2024. Zoom instructions and participation details will follow.

Written Public Comment: Written comments will also be accepted per the instructions provided in the Addresses section above. Written public comments received prior to the meeting will be part of the official record of the meeting. The docket will close on September 23, 2024.

Policy on Redaction of Committee Meeting Transcripts (Public Comment): Transcripts will be prepared and posted to https://www.regulations.gov within 60 days after the meeting. If individuals making a comment give their name, no attempt will be made to redact the name. NIOSH will take reasonable steps to ensure that individuals making public comments are aware that their comments (including their names, if provided) will appear in a transcript of the meeting posted on a public website. Such reasonable steps include a statement read at the start of the meeting stating that transcripts will be posted, and that names of speakers will not be redacted. If individuals in making a statement reveal personal information (e.g., medical information) about themselves, that information will not usually be redacted. The CDC Freedom of Information Act coordinator will, however, review such revelations in accordance with the Freedom of Information Act and, if deemed appropriate, will redact such information. Disclosures of information concerning third-party medical information will be redacted.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-19624 Filed 8-30-24; 8:45 am]

BILLING CODE 4163-18-P